DEPARTMENT OF TRANSPORTATION

Federal Transit Administration

[Docket No: FTA-2008-0035]

National Transit Database: Natural Disaster Adjustments for Urbanized Area Apportionments

AGENCY: Federal Transit Administration (FTA), DOT.

ACTION: Final Natural Adjustment Policy for Urbanized Area Apportionments.

SUMMARY: This notice announces the Federal Transit Administration's (FTA) National Transit Database (NTD) policy on natural disaster adjustments for data used in urbanized area apportionments. On August 14, 2008, FTA proposed a new policy allowing transit systems suffering a marked decrease in transit service data due to a natural disaster to use their transit service data from a prior year in the urbanized area apportionments. FTA received three comments on this policy change and is now formally adopting the new policy.

DATES: Effective Date: November 13, 2008.

FOR FURTHER INFORMATION CONTACT: For program issues, John D. Giorgis, Office of Budget and Policy, (202) 366-5430 (telephone); (202) 366-7989 (fax); or john.giorgis@dot.gov (e-mail). For legal issues, Richard Wong, Office of the Chief Counsel, (202) 366-0675 (telephone); (202) 366-3809 (fax); or richard.wong@dot.gov (e-mail).

SUPPLEMENTARY INFORMATION:

I. Background

The National Transit Database (NTD) was established by Congress “to help meet the needs of * * * the public for information on which to base public transportation service planning * * * ” (49 U.S.C. 5335). To support this goal, recipients or beneficiaries of Urbanized Area Formula Grants (Section 5307) or Other Than Urbanized Area Formula (Section 5311) Grants are required to report to the NTD. Some other providers of transit service in urbanized areas report voluntarily to the NTD for purposes of benefitting their local urbanized area in the urbanized area apportionments. Currently, over 650 transit agencies in urbanized areas report to the NTD through an Internet-based reporting system. Each year, performance data from these submissions are used to apportion over $6 billion of FTA funds under the Urbanized Area Formula Grants and Fixed-Guideway Modernization Grants Programs. These data are also used in the annual National Transit Summaries and Trends report, the biennial Conditions and Performance Report to Congress, and in meeting FTA's obligations under the Government Performance and Results Act.

FTA currently allows a transit provider that is severely impacted by a natural disaster to request a waiver from reporting to the NTD for the current year. This policy is based on the NTD Rule (49 CFR Part 630.10), which provides for a waiver from the mandatory NTD reporting requirements if reporting to the NTD would cause “unreasonable expense or inconvenience.” When FTA grants such a waiver to an urbanized area recipient that has previously reported to the NTD, FTA automatically includes data from the last-available NTD report year for that recipient in the apportionment of formula grants for urbanized areas. However, FTA does not currently have policies or procedures that would allow it to use NTD data from a prior report year in the apportionment of urbanized area formula grants for a transit provider that is able to report for the current year. This Notice establishes such a policy for urbanized area reporters. This policy would not currently apply to NTD reporters from rural areas, however, as NTD data are not used in the apportionment of Other Than Urbanized Area Formula Grants (Section 5311 Grants). These Grants are apportioned solely on the basis of geographic data and population data from the U.S. Census Bureau.

II. Comments and FTA Response to Comments

On August 14, 2008, FTA published a notice in the Federal Register (73 FR 47641) inviting comments on its proposed policy for natural disaster adjustments. FTA received three comments on this proposed policy change. One comment supported the policy change. Two commenters also supported the policy change and requested that FTA expand this policy to include not just natural disasters, but also man-made disasters, such as terrorist attacks, criminal activity, forest fires, or disruptions to utilities. These commenters also requested that the policy be made applicable for multiple years, rather than only the year in which the disaster occurs.

Response: FTA agrees to make this policy applicable to all disasters, both natural and man-made. FTA also notes that it always intended for its proposed policy to be applicable for multiple years, at FTA's discretion, and will clarify this in the final policy below.

III. Final Policy

If a transit provider suffers a marked decrease in transit service due to a natural or man-made disaster, either the transit provider or the designated recipient for an urbanized area may make a request to be “held harmless” in the apportionment of formula grants for urbanized areas. If FTA approves the request, FTA will use data for the affected providers from the NTD report year before the disaster occurred in place of data for the current report year in the urbanized area apportionments. FTA would continue to use data from the current NTD report year for all other transit providers in the urbanized area apportionment.

This adjustment would not be automatic and must be requested in writing. FTA will approve or deny each request at its discretion based on the following factors: (1) Whether a Federal disaster declaration was in place for all or part of the current report year, for either all or part of the transit provider's service area; (2) whether the request demonstrates that the decrease in transit service from the report year before the disaster is in large part due to the ongoing impact of the disaster; and (3) whether the request demonstrates that the decrease in transit service reasonably appears to be temporary, and not reflective of the true transit needs of the urbanized area. FTA will not grant adjustment requests that do not address all three factors. Adjustment requests should include sufficient documentation to allow FTA to evaluate the request based on these factors. FTA may request additional information from an applicant for an adjustment to evaluate the request based on these factors. A request for an adjustment may only be made for one year at a time. Requests for adjustment related to the same disaster may be made in subsequent years, provided that the applicant can continue to support its request based on the above factors. If the adjustment request is granted, the NTD data in all publicly-available data sets and data products would remain unadjusted, and would reflect the actual NTD submission for the transit provider. The only adjustment would be in the data sets used for the apportionments of formula grants for urbanized areas.

This policy will take effect for the 2007 NTD Report Year, which is the data used in the FY 2009 apportionments of formula grants for urbanized areas. This policy will remain in effect for the 2008 NTD Report Year, which has already begun, and will be included in the NTD Annual Manual for the 2009 Report Year.

Issued in Washington, DC, this 31st day of October 2008.
James S. Simpson,
Administrator.

[FR Doc. E8-26888 Filed 11-12-08; 8:45 am]

BILLING CODE 4910-57-P